DEPARTMENT OF STATE

[Public Notice 4825]

Notice of Meeting of the Cultural Property Advisory Committee

In accordance with the provisions of the Convention on Cultural Property Implementation Act (19 U.S.C. 2601 et seq.) there will be a meeting of the Cultural Property Advisory Committee on Thursday, November 18, 2004, from approximately 9 a.m. to 5 p.m., and on Friday, November 19, from approximately 9 a.m. to 2 p.m., at the Department of State, Annex 44, Room 840, 301 4th St., SW., Washington, DC. During its meeting the Committee will review a proposal to extend the Memorandum of Understanding Between the Government of the United States of America and the Government of the Republic of El Salvador Concerning the Imposition of Import Restrictions on Certain Categories of Archaeological Material from the Pre-Hispanic Cultures of the Republic of El Salvador. The Government of the Republic of El Salvador has notified the Government of the United States of America of its interest in such an extension. The Committee will also conclude its review of a request from the Government of the Republic of Colombia, focusing on Colonial ethnological material.

The Committee's responsibilities are carried out in accordance with provisions of the Convention on Cultural Property Implementation Act (19 U.S.C. 2601 et seq.). The text of the Act, the text of the subject Memorandum of Understanding, and related information may be found at http://exchanges.state.gov/culprop. Portions of the meeting on November 18 and 19 will be closed pursuant to 5 U.S.C. 552b(c)(9)(B) and 19 U.S.C. 2605(h). However, on November 18, the Committee will hold an open session, approximately 11 a.m. to 12 Noon, to receive oral public comment on the proposal to extend. Persons wishing to attend this open session should notify the Cultural Heritage Center of the Department of State at (202) 619-6612 by Thursday, November 5, 2004, 3 p.m. (EDT) to arrange for admission, as seating is limited.

Those who wish to make oral presentations should request to be scheduled and submit a written text of the oral comments by November 5 to allow time for distribution to Committee members prior to the meeting. Oral comments will be limited to five minutes each to allow time for questions from members of the Committee and must specifically address the determinations under Section 303(a)(1) of the Convention on Cultural Property Implementation Act, 19 U.S.C. 2602, pursuant to which the Committee must make findings. This citation for the determinations can be found at the web site noted above.

The Committee also invites written comments and asks that they be submitted no later than November 5. All written materials, including the written texts of oral statements, should be faxed to (202) 260-4893.

Dated: October 18, 2004.
C. Miller Crouch,
Acting Assistant Secretary for Educational and Cultural Affairs, Department of State.

[FR Doc. 04-24052 Filed 10-26-04; 8:45 am]

BILLING CODE 4710-05-U